DEPARTMENT OF THE TREASURY

Office of Foreign Assets Control

Identification of Persons Pursuant to the Iranian Transactions and Sanctions Regulations and Executive Order 13599

AGENCY: Office of Foreign Assets Control, Treasury.

ACTION: Notice.

SUMMARY: The Treasury Department's Office of Foreign Assets Control (“OFAC”) is publishing the names of six individuals and four companies identified as Government of Iran pursuant to the Iranian Transactions and Sanctions Regulations, 31 CFR part 560 (“ITSR”), and Executive Order 13599.

DATES: The identification made by the Acting Director of OFAC of the persons identified in this notice, pursuant to the ITSR and Executive Order 13599, was effective September 6, 2013.

FOR FURTHER INFORMATION CONTACT: Assistant Director, Sanctions Compliance and Evaluation, Office of Foreign Assets Control, Department of the Treasury, Washington, DC 20220, Tel.: 202/622-2490.

SUPPLEMENTARY INFORMATION:

Electronic and Facsimile Availability

This document and additional information concerning OFAC are available from OFAC's Web site (www.treas.gov/ofac) or via facsimile through a 24-hour fax-on-demand service, Tel.: 202/622-0077.

Background

On February 5, 2012, the President issued Executive Order 13599, “Blocking Property of the Government of Iran and Iranian Financial Institutions” (the “Order”). Section 1(a) of the Order blocks, with certain exceptions, all property and interests in property of the Government of Iran, including the Central Bank of Iran, that are in the United States, that hereafter come within the United States, or that are or hereafter come within the possession or control of any United States person, including any foreign branch. Section 7(d) of the Order defines the term “Government of Iran” to mean the Government of Iran, any political subdivision, agency, or instrumentality thereof, including the Central Bank of Iran, and any person owned or controlled by, or acting for or on behalf of, the Government of Iran.

Section 560.211(a) of the ITSR implements Section 1(a) of the Order. Section 560.304 of the ITSR defines the term “Government of Iran” to include: “(a) The state and the Government of Iran, as well as any political subdivision, agency, or instrumentality thereof, including the Central Bank of Iran; (b) Any person owned or controlled, directly or indirectly, by the foregoing; and (c) Any person to the extent that such person is, or has been, since the effective date, acting or purporting to act, directly or indirectly, for or on behalf of any of the foregoing; and (d) Any other person determined by the Office of Foreign Assets Control to be included within [(a) through (c)].” Section 560.313 of the ITSR further defines an “entity owned or controlled by the Government of Iran” to include “any corporation, partnership, association, or other entity in which the Government of Iran owns a 50 percent or greater interest or a controlling interest, and any entity which is otherwise controlled by that government.”

On September 6, 2013, the Acting Director of OFAC identified six individuals and four companies as Government of Iran meeting the definition of the Government of Iran pursuant to the Order and the ITSR.

The listing for these persons is as follows:

1. SEYYEDI, Seyed Nasser Mohammad; DOB 21 Apr 1963; citizen Iran; Additional Sanctions Information—Subject to Secondary Sanctions; Passport B14354139 (Iran); alt. Passport L18507193 (Iran); alt. Passport X95321252 (Iran); Managing Director, Sima General Trading (individual) [IRAN].

2. PARSAEI, Reza; DOB 09 Aug 1963; citizen Iran; Additional Sanctions Information—Subject to Secondary Sanctions; Director, NIOC International Affairs (London) Ltd. (individual) [IRAN].

3. TABATABAEI, Seyyed Mohammad Ali Khatibi; DOB 27 Sep 1955; citizen Iran; Additional Sanctions Information—Subject to Secondary Sanctions; Director, NIOC International Affairs (London) Ltd.; Director of International Affairs, NIOC (individual) [IRAN].

4. ZIRACCHIAN ZADEH, Mahmoud; DOB 24 Jul 1959; citizen Iran; Additional Sanctions Information—Subject to Secondary Sanctions; Director, Iranian Oil Company (U.K.) Ltd. (individual) [IRAN].

5. MOHADDES, Seyed Mahmoud; DOB 07 Jun 1957; citizen Iran; Additional Sanctions Information—Subject to Secondary Sanctions; Managing Director, Iranian Oil Company (U.K.) Ltd. (individual) [IRAN].

6. MOINIE, Mohammad; DOB 04 Jan 1956; POB Brojerd, Iran; citizen United Kingdom; Additional Sanctions Information—Subject to Secondary Sanctions; Passport 301762718 (United Kingdom); Commercial Director, Naftiran Intertrade Company Sarl (individual) [IRAN].

7. SWISS MANAGEMENT SERVICES SARL, 28C, Route de Denges, Lonay 1027, Switzerland; Additional Sanctions Information—Subject to Secondary Sanctions [IRAN].

8. KASB INTERNATIONAL LLC, United Arab Emirates; Additional Sanctions Information—Subject to Secondary Sanctions [IRAN].

9. PETRO ROYAL FZE, United Arab Emirates; Additional Sanctions Information—Subject to Secondary Sanctions [IRAN].

10. AA ENERGY FZCO, United Arab Emirates; Additional Sanctions Information—Subject to Secondary Sanctions [IRAN].

Dated: September 6, 2013.
Charles M. Steele,
Acting Director, Office of Foreign Assets Control.

[FR Doc. 2013-22480 Filed 9-13-13; 8:45 am]

BILLING CODE 4810-AL-P